DEPARTMENT OF COMMERCE

National Oceanic and Atmospheric Administration

RIN 0648-XC268

Marine Mammals; File No. 16239

AGENCY: National Marine Fisheries Service (NMFS), National Oceanic and Atmospheric Administration (NOAA), Commerce.

ACTION: Notice; issuance of permit amendment.

SUMMARY: Notice is hereby given that a major amendment to Permit No. 16239 has been issued to Dan Engelhaupt, Ph.D., HDR EOC, 5700 Lake Wright Drive, Norfolk, VA 23502-1859.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Courtney Smith, (301) 427-8401.

SUPPLEMENTARY INFORMATION: On August 27, 2015, notice was published in the Federal Register (80 FR 52034) that a request for an amendment to Permit No. 16239 to conduct research on many marine mammal species had been submitted by the above-named applicant. The requested permit amendment has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16239, issued on September 11, 2013 (78 FR 60852), authorizes the permit holder to harass cetacean and pinniped species during vessel and aerial survey activities, including behavioral observations and photo-identification. Cetacean species may also be harassed during underwater photography and collection of sloughed skin and fecal samples. Surveys may be conducted year-round in all U.S. and international waters in the Pacific Ocean (including Alaska, Washington, Oregon, California, Hawaii, Guam, Marianas Islands, and other U.S. territories) and Atlantic Ocean (including the Gulf of Mexico, western North Atlantic, Caribbean Sea, and Sargasso Seas). The permit expires September 30, 2018.

The amendment authorizes: (1) Increasing takes for some species during aerial and vessel visual surveys to document presence/absence, behavior, and movement of marine mammals before, during, and after Naval training exercise operations, offshore energy installations, oil and gas exploration and production, and pier refurbishment/replacement; (2) collecting biopsy samples to document genetic variation within populations, gender, foraging patterns, and stress levels; and (3) using multiple tag types, including satellite and digital acoustic tags, to document movement and dive patterns, social and population structure, and habitat use. See tables in the permit amendment for numbers of takes by species, stock and activity.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: January 7, 2016.
Julia Harrison,
Chief, Permits and Conservation Division, Office of Protected Resources, National Marine Fisheries Service.

[FR Doc. 2016-00392 Filed 1-11-16; 8:45 am]

BILLING CODE 3510-22-P